EXPORT-IMPORT BANK

[Public Notice 43]

Agency Information Collection Activities: Submission for OMB Review; Comment Request

AGENCY: Export-Import Bank of the United States.

ACTION: Submission for OMB Review; Comment Request; Emergency Clearance.

SUMMARY: In accordance with requirements of the Paperwork Reduction Act of 1995, the Export-Import Bank of the United States (Ex-Im Bank) has submitted to the Office of Management and Budget (OMB) a request to review and approve two new information collections described below.

DATES: Comments due on or before March 16, 2001.

SUPPLEMENTARY INFORMATION: This notice is soliciting comments from members of the public concerning the proposed collection of information to (1) evaluate whether the proposed collection is necessary for the paper performance of the functions of the agency, including whether the information will have practical utility; (2) evaluate the accuracy of the agency's estimate of the burden of the proposed collection of information; (3) enhance the quality, utility, and clarity of the information to be collected; and (minimize the burden of collection of information on those who are to respond: including through the use of appropriated automated collection techniques or other forms of information technology, e.g. permitting electronic submission of responses.

OMB Number: Not yet assigned.

Titles and form numbers: Export-Import Bank of the U.S. Foreign Content Report EIB 01-02 and Export-Import Bank of the U.S. Cause Report EIB 01-02-A.

Type of Review: New collection.

Need and Use: The information requested will create less of a burden on our exporters who currently must certify foreign content for each shipment of goods. With the use of the new forms, Ex-Im Bank will now be documenting the amount of foreign content in transactions through up-front reporting and back-end verification.

Affected Public: Business and other for-profit/not-for-profit institutions, Farms.

Respondents: Entities involved in the export of U.S. goods and services, including exporters, banks, and other non-financial lending institutions that act as facilitators.

Estimated annual respondents: 600.

Estimated time per respondent: 2 hours.

Estimated annual burden: 1,200 hours.

Frequency of response: On occasion.

Copies of these submissions may be obtained from Carlista D. Robinson, Export-Import Bank of the United States, 811 Vermont Avenue, NW., Washington, DC 20571, (202) 565-3351. Comments and recommendations concerning the submissions should be sent to Mr. David Rostker, Office Of Management and Budget, Office of Information and Regulatory Affairs, NEOB, Room 10202, Washington, DC 20503.

Carlista D. Robinson,
Agency Liaison Officer.

[FR Doc. 01-4429 Filed 2-21-01; 8:45 am]

BILLING CODE 6690-01-M